DEPARTMENT OF THE INTERIOR

National Park Service

National Register of Historic Places; Notification of Pending Nominations and Related Actions

Nominations for the following properties being considered for listing or related actions in the National Register were received by the National Park Service before June 27, 2009. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by July 29, 2009.

J. Paul Loether,
Chief, National Register of Historic Places/National Historic Landmarks Program.

ARIZONA

Maricopa County

Roald Amundsen Pullman Private Railroad Car, 7301 Indian Bend Rd., Scottsdale, 09000582

Pima County

Barrio El Membrillo Historic District, Bounded by W. Granada St. on the N., W. Simpson St. on the S., the right-of-way of the former EP&SW Railroad on the E., Tucson, 09000583

COLORADO

Jefferson County

Rockland Community Church and Cemetery, 24225 Rockland Rd., Golden, 09000584

GEORGIA

DeKalb County

Donaldson-Bannister House and Cemetery, 4831 Chamblee-Dunwoody Rd., Dunwoody, 09000585

Gwinnett County

Buford Public School Auditorium, 4975 Little Mill Rd., Buford, 09000586

HAWAII

Hawaii County

Crater Rim Drive, Hawaii Volcanoes National Park, Hilo, 09000588

Hilina Pali Road, Hawaii Volcanoes National Park, Hilo, 09000587

ILLINOIS

Champaign County

Alpha Gamma Delta Fraternity House, (Fraternity and Sorority Houses at the Urbana—Champaign Campus of the University of Illinois MPS) 1106 S. Lincoln Ave., Urbana, 09000589

Cook County

Episcopal Church of the Atonement and Parish House, The, 5751 N. Kenmore Ave., Chicago, 09000590

KENTUCKY

Garrard County

Bowman House, (Garrard County MRA) 1596 Bowmans Bottom Rd., Lancaster, 09000591

MAINE

Androscoggin County

Turner Cattle Pound, SW corner of Gen. Turner Hill Rd. and Kennebec Trail, Turner, 09000592

Hancock County

Bass Harbor Memorial Library, 89 Bernard Rd., Tremont, 09000593

Sagadahoc County

Fiddler's Reach Fog Signal, N. shore of Kennebec River, E. of Doubling Point Light Station, Arrowsic, 09000594

Waldo County

(Former) Maine Central Railroad Depot, ME Rt. 7, Brooks, 09000595

MISSOURI

Buchanan County

Museum Hill Historic District (Boundary Increase), (St. Joseph, Buchanan County, Missouri MPS AD) 321 and 323 N. 15th and 1510 Faraon St., St. Joseph, 09000598

Cooper County

Blackwater Residential Historic District, Parts of the 300-400 block of Trigg Ave., 300 block of Scott Ave. and the 300 block of Main St., Blackwater, 09000597

St. Louis Independent city

Forest Park Southeast Historic District (Boundary Increase III), 4100-4162 Manchester (even) 4151-4201 Manchester (odd) & 4216 Gibson, St. Louis, 09000596

NORTH CAROLINA

Alamance County

Beverly Hills Historic District, (Burlington MRA) Portion of 14 blocks on N. Main St., Rolling Rd., Highland Ave., Virginia Ave., N. Ireland St., N. St. John St., Burlington, 09000599

Catawba County

Frye, Dr. Glenn R., House, 539 N. Center St., NE, Hickory, 09000600

Durham County

Russell School, 2001 St. Mary's Rd. (S. side SR 1002.1 mi. W of jct with SR 1003), Durham, 09000601

Forsyth County

Winston-Salem Tobacco Historic District, Bounded by Chestnut St. on the W., 5th and 7th Sts. on the N., Linden St. on the E., and 4th and Fogle Sts. on the S., Winston-Salem, 09000602

[FR Doc. E9-16574 Filed 7-13-09; 8:45 am]

BILLING CODE P